DEPARTMENT OF TRANSPORTATION

Federal Aviation Administration

14 CFR Part 39

[Docket No. FAA-2007-0169; Directorate Identifier 2007-NE-45-AD]

RIN 2120-AA64

Airworthiness Directives; Rolls-Royce Deutschland Ltd & Co KG, BR700-715A1-30, BR700-715B1-30, and BR700-715C1-30 Turbofan Engines

AGENCY: Federal Aviation Administration (FAA), DOT.

ACTION: Notice of proposed rulemaking (NPRM).

SUMMARY: We propose to adopt a new airworthiness directive (AD) for the products listed above. This proposed AD results from mandatory continuing airworthiness information (MCAI) issued by another country to identify and correct an unsafe condition on Rolls-Royce Deutschland Ltd & Co KG, BR700-715A1-30, BR700-715B1-30, and BR700-715C1-30 turbofan engines. The MCAI states the following:

The application of most recent 3D FEM modeling has resulted in the need to reconsider the disc lives as currently shown in the Time Limits Manual. The current Post Certification Life Statement for the low pressure (LP) compressor (fan) disc assembly revises the Declared Safe Cyclic Life (DSCL) from 33,000 flight cycles to 25,000 flight cycles for both the BR715 LP (fan) disc assembly Part No. (P/N) BRH10048 and BR715 LP compressor (fan) disc assembly P/N BRH19253, when installed in the BR700-715A1-30 engine model and operated against the Hawaiian Flight Mission.

The proposed AD would require revising the maximum approved life limit for both the BR715 LP compressor (fan) disc assembly P/N BRH10048 and BR715 LP compressor (fan) disc assembly P/N BRH19253, from 33,000 flight cycles to 25,000 flight cycles, if ever operated against the Hawaiian Flight Mission and removing LP compressor (fan) disc assemblies from service that exceed the maximum approved life limit before further flight. This condition, if not corrected, could result in uncontained failure of the LP compressor (fan) disc assembly and damage to the airplane.

DATES: We must receive comments on this proposed AD by March 6, 2008.

ADDRESSES: You may send comments by any of the following methods:

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

FOR FURTHER INFORMATION CONTACT: Jason Yang, Aerospace Engineer, Engine Certification Office, FAA, Engine and Propeller Directorate, 12 New England Executive Park, Burlington, MA 01803; e-mail: Jason.yang@faa.gov; telephone (781) 238-7747; fax (781) 238-7199.

SUPPLEMENTARY INFORMATION:

Comments Invited

We invite you to send any written relevant data, views, or arguments about this proposed AD. Send your comments to an address listed under the ADDRESSES section. Include “Docket No. FAA-2007-0169; Directorate Identifier 2007-NE-45-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the European Community, has issued EASA Airworthiness Directive 2007-0116-E, dated May 4, 2007 (referred to after this as “the MCAI”), to correct an unsafe condition for the specified products. The MCAI states:

The application of most recent 3D FEM modeling has resulted in the need to reconsider the disc lives as currently shown in the Time Limits Manual. The current Post Certification Life Statement for the low pressure (LP) compressor (fan) disc assembly revises the Declared Safe Cyclic Life (DSCL) from 33,000 flight cycles to 25,000 flight cycles for both the BR715 LP (fan) disc assembly P/N BRH10048 and BR715 LP compressor (fan) disc assembly P/N BRH19253, when installed in the BR700-715A1-30 engine model and operated against the Hawaiian Flight Mission.

You may obtain further information by examining the MCAI in the AD docket.

FAA's Determination and Requirements of This Proposed AD

This product has been approved by the aviation authority of Germany, and is approved for operation in the United States. Pursuant to our bilateral agreement with Germany, they have notified us of the unsafe condition described in the MCAI AD and service information referenced above. We are proposing this AD because we evaluated all information provided by EASA and determined the unsafe condition exists and is likely to exist or develop on other products of the same type design. This proposed AD would require:

• Revising the maximum approved life limit for both the BR715 LP compressor (fan) disc assembly P/N BRH10048 and BR715 LP compressor (fan) disc assembly P/N BRH19253, in the Time Limits Manual No. T-715-3BR; from 33,000 flight cycles to 25,000 flight cycles, if ever operated against the Hawaiian Flight Mission; and

• Removing LP compressor (fan) disc assemblies from service that exceed the maximum approved life limit before further flight.

• Applying the pro rate calculations and completing the Life Limited Part Tracking Sheet, using the revised Hawaiian Flight Mission maximum life limit of 25,000 flight cycles and checking if their consumed life has exceeded maximum approved life of the Flight Mission currently installed in; and

• Before further flight, removing LP compressor disc assemblies from service that do not pass the check.

Costs of Compliance

We estimate that this proposed AD would affect about 240 engines installed on aircraft of U.S. registry. This proposed LP compressor (fan) disc assembly removal does not impose any additional labor costs if performed at the time of scheduled engine overhaul. We also estimate that it will take about one work-hour per engine to calculate and re-establish the achieved cyclic life for an LP compressor (fan) disc assembly, and that the average labor rate is $80 per work-hour. We estimate that the prorate cost of the life reduction per engine will be $33,000. Total cost of this proposed AD is, therefore, $7,939,200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Rolls-Royce Deutschland Ltd & Co KG (formerly BMW Rolls-Royce GmbH, and BMW Rolls-Royce Aero Engines): Docket No. FAA-2007-0169; Directorate Identifier 2007-NE-45-AD.

Comments Due Date

(a) We must receive comments by March 6, 2008.

Affected ADs

(b) None.

Applicability

(c) This AD applies to Rolls-Royce Deutschland Ltd & Co KG (RRD), BR700-715A1-30, BR700-715B1-30, and BR700-715C1-30 turbofan engines, with a low pressure (LP) compressor disc assembly, part number (P/N) BRH10048 or P/N BRH19253, when installed in the BR700-715A1-30 engine model and operated against the Hawaiian Flight Mission. These engines are installed on, but not limited to, McDonnell Douglas Corporation model 717-200 airplanes.

Reason

(d) The mandatory continuous airworthiness information (MCAI) states:

The application of most recent 3D FEM modeling has resulted in the need to reconsider the disc lives as currently shown in the Time Limits Manual. The current Post Certification Life Statement for the low pressure (LP) compressor (fan) disc assembly revises the Declared Safe Cyclic Life (DSCL) from 33,000 flight cycles to 25,000 flight cycles for both the BR715 LP (fan) disc assembly P/N BRH10048 and BR715 LP compressor (fan) disc assembly P/N BRH19253, when installed in the BR700-715A1-30 engine model and operated against the Hawaiian Flight Mission.

This condition, if not corrected, could result in uncontained failure of the LP compressor (fan) disc assembly and damage to the airplane.

Actions and Compliance

(e) No later than 100 flight cycles after the effective date of this AD, do the following actions, unless already done.

BR700-715A1-30 Turbofan Engines

(1) For BR700-715A1-30 turbofan engines, amend the Airworthiness Limitations Section of the Time Limits Manual SUBTASK 05-10-01-860-016, (Hawaiian Flight Mission Only) by revising the “GIVEN LIFE A1-30 RATING (FLIGHT CYCLES)” for both the LP compressor (fan) disc assembly P/N BRH10048 and LP compressor (fan) disc assembly P/N BRH19253 from 33,000 flight cycles to 25,000 flight cycles.

(2) Amend any other Reference, where the maximum approved life limit is quoted for the LP compressor (fan) disc assembly P/N BRH10048 or LP compressor (fan) disc assembly P/N BRH19253, when installed in the BR700-715A-30 engine model and operated under the Hawaiian Flight Mission, to the revised maximum approved life limit of 25,000 flight cycles.

BR700-715B1-30 and BR700-715C1-30 Turbofan Engines

(3) For BR700-715B1-30 and BR700-715C1-30 turbofan engines:

(i) Check to see if the LP compressor (fan) disc assembly P/N BRH10048 or LP compressor (fan) disc assembly P/N BRH19253 is currently, or has previously been, installed in the BR700-715A1-30 engine model and operated under the Hawaiian Flight Mission, by checking the Life Limited Parts (LLP) Tracking Sheet. Information on recording and control of the lives of the parts can be found in the Airworthiness Limitations Section of the Time Limits Manual TASK 05-00-01-800-001.

(ii) If the LP compressor (fan) disc assembly has not operated, and is not going to operate in the Hawaiian Flight Mission, no further action is required.

(iii) If the LP compressor (fan) disc assembly has operated in the Hawaiian Flight Mission:

(A) Apply the prorate calculations and complete the LLP Tracking Sheet using the revised Hawaiian Flight Mission maximum approved life limit of 25,000 flight cycles.

(B) Remove LP compressor (fan) disc assemblies from service before reaching 25,000 flight cycles.

Other FAA AD Provisions

(f) Alternative Methods of Compliance: The Manager, Engine Certification Office, FAA, has the authority to approve alternative methods of compliance for this AD, if requested using the procedures found in 14 CFR 39.19.

Related Information

(g) Refer to MCAI European Aviation Safety Agency Airworthiness Directive 2007-0116-E, dated May 4, 2007, for related information.

(h) Contact Jason Yang, Aerospace Engineer, Engine Certification Office, FAA, Engine and Propeller Directorate, 12 New England Executive Park, Burlington, MA 01803; e-mail: Jason.yang@faa.gov; telephone (781) 238-7747; fax (781) 238-7199, for more information about this AD.

Issued in Burlington, Massachusetts, on January 28, 2008.
Peter A. White,
Assistant Manager, Engine and Propeller Directorate, Aircraft Certification Service.

[FR Doc. E8-2039 Filed 2-4-08; 8:45 am]

BILLING CODE 4910-13-P